DEPARTMENT OF COMMERCE

International Trade Administration

Johns Hopkins University, School of Medicine, et al., Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 A.M. and 5:00 P.M. in Suite 4100W, Franklin Court Building, U.S. Department of Commerce, 1099 14th Street, NW, Washington, D.C.

Docket Number: 05-011. Applicant: Johns Hopkins University, School of Medicine, Baltimore, MD 21205. Instrument: Electron Microscope, Model H-7600-I. Manufacturer: Hitachi High-Technologies Corporation, Japan. Intended Use: See notice at 70 FR 13011, March 17, 2005. Order Date: July 27, 2004.

Docket Number: 05-013. Applicant: National Institute of Standards and Technology, Gaithersburg, MD 20899. Instrument: Electron Microscope, Model Nova 600 Nanolab. Manufacturer: FEI Company, The Netherlands. Intended Use: See notice at 70 FR 13011, March 17, 2005. Order Date: September 23, 2004.

Comments: None received. Decision: Approved. No instrument of equivalent scientific value to the foreign instrument, for such purposes as these instruments are intended to be used, was being manufactured in the United States at the time the instruments were ordered. Reasons: Each foreign instrument is an electron microscope and is intended for research or scientific educational uses. We know of no electron microscope, or any other instrument suited to these purposes, which was being manufactured in the United States either at the time of order of each instrument OR at the time of receipt of application by U.S. Customs and Border Protection.

Gerald A. Zerdy,
Program Manager Statutory Import Programs Staff.

[FR Doc. E5-1846 Filed 4-18-05; 8:45 am]

BILLING CODE 3510-DS-S